DEPARTMENT OF LABOR

Office of Workers' Compensation Programs

Agency Information Collection Activities; Comment Request; Notice of Termination, Suspension, Reduction, or Increase in Benefit Payments (CM-908)

AGENCY: Division of Coal Mine Workers' Compensation, Office of Workers' Compensation Program, Labor.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA).

DATES: Consideration will be given to all written comments received by August 23, 2021.

ADDRESSES: A copy of this ICR with applicable supporting documentation; including a description of the likely respondents, proposed frequency of response, and estimated total burden may be obtained free by contacting Anjanette Suggs by telephone at 202-354-9660 or by email at suggs.anjanette@dol.gov.

Submit written comments about, or requests for a copy of, this ICR by mail or courier to the U.S. Department of Labor, Office of Workers' Compensation Programs, Room S3323, and 200 Constitution Avenue NW, Washington, DC 20210; by email: suggs.anjanette@dol.gov.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR seeks approval under the PRA for an extension of an existing collection titled Notice of Termination, Suspension, Reduction, or Increase in Benefit Payments. Coal mine operators, their representatives, or their insurers who have been identified as responsible for paying benefits under the Black Lung Benefits Act (BLBA), 30 U.S.C. 901 et seq., to an eligible miner or an eligible surviving dependent of the miner are called Responsible Operators (RO's). RO's that pay benefits are required to report any change in the benefit amount to the Department of Labor (DOL). The CM 908, when completed and sent to DOL, notifies DOL of the change in the beneficiary's benefit amount and the reason for the change. This information collection is required under the BLBA and 20 CFR 725.621.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. To help ensure appropriate consideration, comments should mention 1240-0030.

Submitted comments will also be a matter of public record for this ICR and posted on the internet, without redaction. The DOL encourages commenters not to include personally identifiable information, confidential business data, or other sensitive statements/information in any comments.

The Department of Labor is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility and clarity of the information to be collected; and

• Minimize the burden of the collection of information on those who are to respond, including through the use of appropriate automated, electronic, mechanical, or other technological collection techniques or other forms of information technology, e.g., permitting electronic submissions of responses.

Agency: DOL-OWCP-DCMWC.

Type of Review: Extension.

Title of Collection: Notice of Termination, Suspension, Reduction, or Increase in Benefit Payment.

Form: Notice of Termination, Suspension, Reduction, or Increase in Benefit Payment (CM-908).

OMB Control Number: 1240-0030.

Affected Public: Individuals or households; Business or other for profit; Not-for-profit institutions.

Total Respondents: 4,900.

Total Annual Responses: 4,900.

Average Time per Response: 12 minutes.

Estimated Total Burden Hours: 980 hours.

Frequency: On occasion and annually.

Total Burden Cost (capital/startup): $0.

Total Burden Cost (operating/maintenance): $16,905.

Authority: 30 U.S.C. and 20 CFR 725.621.

Anjanette Suggs,
Agency Clearance Officer.

[FR Doc. 2021-13404 Filed 6-23-21; 8:45 am]

BILLING CODE 4510-CK-P